DEPARTMENT OF AGRICULTURE

Agricultural Marketing Service

[FV-02-334]

United States Standards for Grades of Apple Juice From Concentrate

AGENCY: Agricultural Marketing Service, USDA.

ACTION: Notice.

SUMMARY: The Agricultural Marketing Service (AMS) is soliciting comments on its proposal to create new United States Standards for Grades of Apple Juice from Concentrate. USDA has received a petition from a major association to create grade standards for apple juice from concentrate that will include a description of the product, style, grades, ascertaining the grade by sample, and ascertaining the grade by lot. This proposal will provide a common language for trade, a means of measuring value in the marketing of apple juice from concentrate, and provide guidance in the effective utilization of apple juice from concentrate.

DATES: Comments may be submitted on or before January 22, 2002.

ADDRESSES: Written comments may be submitted to: Lydia E. Berry, Processed Products Branch, Fruit and Vegetable Programs, Agricultural Marketing Service, U.S. Department of Agriculture, STOP 0247, 1400 Independence Avenue SW., Washington, DC 20250-0247; fax (202) 690-1087; or e-mail lydia.berry@usda.gov. Comments should reference the date and page of this issue of the Federal Register. All comments received will be made available for public inspection at the address listed above during regular business hours and on the Internet.

The draft of the United States Standards for Grades Apple Juice from Concentrate is available either through the address cited above or by accessing the AMS Home Page on the Internet at: www.ams.usda.gov.fv/ppb.html. Any comments received, regarding this proposed standard will also be posted on that site.

FOR FURTHER INFORMATION CONTACT: Lydia E. Berry at (202) 720-5021 or e-mail at lydia.berry@usda.gov.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices * * *.” AMS is committed to carrying out this authority in a manner that facilitates the marketing of agricultural commodities and make copies of official standards available upon request. The United States Standards for Grades of Fruits and Vegetables no longer appear in the Code of Federal Regulations but are maintained by USDA/AMS/Fruit and Vegetable Programs.

AMS is proposing to establish the U.S. Standards for Grades of Apple Juice from Concentrate using the procedures that appear in part 36 of Title 7 of the Code of Federal Regulations (7 CFR part 36).

On May 28, 1996, Processed Apples Institute, Inc., an association of producers of processed apple products, requested that USDA develop a standard for apple juice from concentrate to be used by the industry. The petitioner provided information on style, and descriptions to AMS to develop the standard.

After researching the issue, AMS prepared a discussion draft of the apple juice from concentrate standard, and distributed copies for input to the petitioner, and the National Food Processors Association (NFPA). Input from the above groups was used to develop the proposed standard.

Based on the results of the information gathered, AMS is proposing to establish a standard for apple juice from concentrate following the standard format for U.S. Grade Standards. AMS is proposing to define “apple juice from concentrate” and establish “clear” and “cloudy” as the style designations. The proposal will also define the quality factors that affect apple juice from concentrate such as “color,” “defects” and “flavor.”

This proposal will establish the grade levels “A,” “B,” and “Substandard,” and assign the corresponding score points for each level. The proposed tolerance for each quality factor as defined for each grade level will also be established.

The grade of a sample unit of apple juice from concentrate will be ascertained by considering the ratings for the factors of absence of defects, color and clarity, and flavor and aroma, which are scored; the total score; and the limiting rules which apply. This proposal will provide a common language for trade, a means of measuring value in the marketing of apple juice from concentrate, and provide guidance in the effective utilization of apple juice from concentrate. The official grade of a lot of apple juice from concentrate covered by these standards will be determined by the procedures set forth in the Regulations Governing Inspection and Certification of Processed Products Thereof, and Certain Other Processed Foods Products (7 CFR 52.1 to 52.83).

This notice provides for a 60 day comment period for interested parties to comment on changes to the standards.

Authority: 7 U.S.C. 1621-1627.

Dated: November 15, 2001.
A.J. Yates,
Administrator, Agricultural Marketing Service.

[FR Doc. 01-29113 Filed 11-20-01; 8:45 am]

BILLING CODE 3410-02-P